FEDERAL COMMUNICATIONS COMMISSION

47 CFR Part 73

[DA 01-132; MM Docket No. 01-11, RM-10027]

Radio Broadcasting Services; Murrieta, CA

AGENCY: Federal Communications Commission.

ACTION: Proposed rule.

SUMMARY: The Commission requests comments on a petition filed by Helen Jones proposing the allotment of Channel 281A at Murrieta, California, as the community's first local aural transmission service. Channel 281A can be allotted at Murrieta in compliance with the Commission's minimum distance separation requirements with a site restriction of with respect to all domestic allotments, with a site restriction of 5.2 kilometers (3.2 miles) east to avoid a short-spacing to the licensed site of Station KBIG-FM, Channel 282B, Los Angeles, California. The coordinates for Channel 281A at Murrieta are 33-32-55 North Latitude and 117-09-26 West Longitude. The allotment will result in a short-spacing to Station XHBA-FM, Channel 281C, Mexicali, BN, Mexico. Therefore, since Murrieta is located within 320. kilometers (199 miles) of the U.S.-Mexican border, concurrence in the allotment as a specially-negotiated, short-spaced allotment will be sought from the Mexican government.

DATES: Comments must be filed on or before March 12, 2001, reply comments on or before March 27, 2001.

ADDRESSES: Federal Communications Commission, Washington, DC 20554. In addition to filing comments with the FCC, interested parties should serve the petitioner, or its counsel or consultant, as follows: David Tillotson, Esq., 4606 Charleston Terrace, NW., Washington, DC 20007 (Counsel for Petitioner).

FOR FURTHER INFORMATION CONTACT: Sharon P. McDonald, Mass Media Bureau, (202) 418-2180.

SUPPLEMENTARY INFORMATION: This is a synopsis of the Commission's Notice of Proposed Rule Making, MM Docket No. 01-11, adopted January 10, 2001, and released January 19, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 01-2749 Filed 1-31-01; 8:45 am]

BILLING CODE 6712-01-U